DEPARTMENT OF ENERGY

Federal Energy Regulatory Commission

Combined Notice of Filings

Take notice that the Commission has received the following Natural Gas Pipeline Rate and Refund Report filings:

Filings Instituting Proceedings

Docket Numbers: PR14-55-000.

Applicants: Arkansas Oklahoma Gas Corporation.

Description: Request for Limited Waiver of Requirement to Submit Informational Rate Filing and Continued Limited Waiver of Form 549-D.

Filed Date: 9/23/14.

Accession Number: 20140923-5183.

Comments Due: 5 p.m. ET 10/14/14.

284.123(g) Protests Due:

Docket Numbers: RP14-1277-000.

Applicants: Transcontinental Gas Pipe Line Company.

Description: § 4(d) rate filing per 154.403(d)(2): LNG Fuel Tracker Filing 2014 to be effective 11/1/2014.

Filed Date: 9/25/14.

Accession Number: 20140925-5109.

Comments Due: 5 p.m. ET 10/7/14.

Docket Numbers: RP14-1278-000.

Applicants: Midcontinent Express Pipeline LLC.

Description: § 4(d) rate filing per 154.204: Continental Resources' Negotiated Rate to be effective 10/1/2014.

Filed Date: 9/25/14.

Accession Number: 20140925-5121.

Comments Due: 5 p.m. ET 10/7/14.

Docket Numbers: RP14-1279-000.

Applicants: Tennessee Gas Pipeline Company, L.L.C.

Description: § 4(d) rate filing per 154.204: Volume No. 2—Statoil Natural Gas LLC SP102661 to be effective 11/1/2014.

Filed Date: 9/25/14.

Accession Number: 20140925-5151.

Comments Due: 5 p.m. ET 10/7/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-1196-001.

Applicants: Gas Transmission Northwest LLC.

Description: Compliance filing per 154.203: Compliance to RP14-1196-000 to be effective 9/22/2014.

Filed Date: 9/26/14.

Accession Number: 20140926-5018.

Comments Due: 5 p.m. ET 10/8/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2014.
Nathaniel J. Davis, Sr.,
Deputy Secretary.

[FR Doc. 2014-23528 Filed 10-2-14; 8:45 am]

BILLING CODE 6717-01-P